DEPARTMENT OF TRANSPORTATION

Federal Aviation Administration

Airborne Selective Calling Equipment

AGENCY: Federal Aviation Administration (FAA), DOT.

ACTION: Notice of availability and request for public comment.

SUMMARY: This notice announces the availability of, and requests comment on proposed Technical Standard Order (TSO) C-59a, Airborne Selective Calling (SELCAL) Equipment. This proposed TSO tells persons seeking a TSO authorization or letter of design approval what minimum performance standards (MPS) their SELCAL must meet to be identified with the appropriate TSO marking.

DATES: Comments must be received on or before May 18, 2005.

ADDRESSES: Send all comments on this proposed TSO to: Federal Aviation Administration (FAA), Aircraft Certification Service, Aircraft Engineering Division, Avionics Systems Branch (AIR-130), 800 Independence Avenue SW., Washington, DC 20591. ATTN: Mr. David Robinson. Or, you may deliver comments to: Federal Aviation Administration, Room 815, 800 Independence Avenue SW., Washington, DC 20591.

FOR FURTHER INFORMATION CONTACT: Mr. David Robinson, AIR-130, Room 815, Federal Aviation Administration, 800 Independence Avenue SW., Washington, DC 20591. Telephone (202) 385-4650, FAX: (202) 385-4651.

SUPPLEMENTARY INFORMATION:

Comments Invited

You are invited to comment on the proposed TSO by submitting written data, views, or arguments to the above address. Comments received may be examined, both before and after the closing date, in room 815 at the above address, weekdays except federal holidays, between 8:30 a.m. and 4:30 p.m. The Director, Aircraft Certification Service, will consider all comments received on or before the closing date before issuing the final TSO.

Background

This TSO prescribes the minimum performance standard for airborne selective calling (SELCAL) equipment intended to permit selective calling of individual aircraft over approved communications channels linking the ground station with the aircraft. The system is designed to operate with existing high frequency (HF) and very high frequency (VHF) ground-to-air transmitters and receivers.

How To Obtain Copies

You can view or download the proposed TSO from its online location at: http://www.airweb.faa.gov/rgl. At this web page, select “Technical Standard Orders.” At the TSO page, select “Proposed Orders.” For a paper copy, contact the person list in For Further Information Contact.

Dated: Issued in Washington, DC, on April 11, 2005.
Susan J. M. Cabler,
Acting Manager, Aircraft Engineering Division, Aircraft Certification Service.

[FR Doc. 05-7619 Filed 4-15-05; 8:45 am]

BILLING CODE 4910-13-M